DEPARTMENT OF HOMELAND SECURITY

Federal Emergency Management Agency

[Docket ID: FEMA-2023-0033; OMB No. 1660-NW171]

Agency Information Collection Activities: Submission for OMB Review, Comment Request; Generic Clearance for FEMA's Collection of Feedback on Customer Satisfaction and Disaster Recovery

AGENCY: Federal Emergency Management Agency, Department of Homeland Security.

ACTION: 30-Day notice of new collection and request for comments.

SUMMARY: The Federal Emergency Management Agency (FEMA) will submit the information collection abstracted below to the Office of Management and Budget for review and clearance in accordance with the requirements of the Paperwork Reduction Act of 1995. FEMA invites the general public to take this opportunity to comment on a new information collection. In accordance with the requirements of the Paperwork Reduction Act of 1995, this notice seeks comments concerning a generic clearance to collect feedback from applicants on service delivery and their subsequent disaster recovery.

DATES: Comments must be submitted on or before April 29, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Kristin Brooks, Statistician, FEMA's Recovery Reporting and Analytics Division, Customer Survey and Analysis Section, at (202) 826-6291 or Kristin.Brooks@fema.dhs.gov.

SUPPLEMENTARY INFORMATION: Executive Order 12862, “Setting Customer Service Standards,” requires that all Federal Agencies implement customer service standards and provide service to the public that matches or exceeds the best service available in the private sector. To accomplish this, Federal Agencies are required to survey customers to determine the kind and quality of services they want and their level of satisfaction with existing services.

The Government Performance and Results Act (GPRA) of 2010 also requires quarterly performance assessments of Government programs for purposes of assessing agency performance and improvement. One of the primary goals of GPRA is to improve Federal program effectiveness and public accountability by promoting a focus on results, service quality, and customer satisfaction.

The Foundations for Evidence-Based Policymaking Act of 2018 (“Evidence Act”) supports that data collection and analysis are important inputs to be used as evidence for prioritizing agency efforts to support civic engagement, delivering on mission, service, and stewardship objectives, and supporting decision-making.

FEMA seeks Office of Management and Budget (OMB) approval for a generic clearance to collect feedback from applicants on service delivery and their subsequent disaster recovery. The Agency has numerous touchpoints with applicants through several specialized customer-facing programs. The feedback collected from applicants may be quantitative or qualitative in nature depending on the population of interest, specific research questions, and the types of required analysis.

This proposed information collection previously published in the Federal Register on December 11, 2023, at 88 FR 85896 with a 60-day public comment period. FEMA received one public comment stating that the creation of this generic collection was counterintuitive to the purpose of the Paperwork Reduction Act of 1995. Executive Order 12862, “Setting Customer Service Standards,” requires that all Federal Agencies implement customer service standards and provide service to the public that matches or exceeds the best service available in the private sector. To accomplish this, Federal Agencies are required to survey customers to determine the kind and quality of services they want and their level of satisfaction with existing services. The GPRA also requires quarterly performance assessments of Government programs for purposes of assessing agency performance and improvement.

FEMA currently administers several customer satisfaction surveys to meet government standards. The goal of this submission is to consolidate customer satisfaction surveys under one clearance to streamline the approval process—not to add surveys or increase burden. A generic clearance will allow FEMA to be more flexible in revising surveys when questions become outdated or irrelevant, which will ultimately minimize burden on the end-user. Survey participation is completely voluntary.

The purpose of this notice is to notify the public that FEMA will submit the information collection abstracted below to the Office of Management and Budget for review and clearance.

Collection of Information

Title: Generic Clearance for FEMA's Collection of Feedback on Customer Satisfaction and Disaster Recovery.

Type of Information Collection: New information collection.

OMB Number: 1660-NW171.

FEMA Forms: Not Applicable.

Abstract: Federal Agencies are required to survey their customers to determine the kind and quality of services they want and their level of satisfaction with those services. In order for the Agency to maintain customer service standards, there must be continuous assessment of service delivery throughout all phases of the customer journey. The Agency will collect, analyze, and interpret information gathered from this generic clearance to identify strengths and weaknesses with program delivery.

Affected Public: Individuals and Households; State, Local or Tribal Governments.

Estimated Number of Respondents: 389,770.

Estimated Number of Responses: 389,770.

Estimated Total Annual Burden Hours: 69,135.

Estimated Total Annual Respondent Cost: $3,015,890.

Estimated Respondents' Operation and Maintenance Costs: $0.

Estimated Respondents' Capital and Start-Up Costs: $0.

Estimated Total Annual Cost to the Federal Government: $2,886,676.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-06623 Filed 3-27-24; 8:45 am]

BILLING CODE 9111-24-P